DEPARTMENT OF THE INTERIOR

U.S. Geological Survey.

Technology Transfer Act of 1986

AGENCY: U.S. Geological Survey.

ACTION: Notice of Proposed Cooperative Research & Development Agreement (CRADA) Negotiations.

SUMMARY: The United States Geological Survey (USGS) is contemplating entering into a Cooperative Research and Development Agreement (CRADA) with Advanced Data Mining, LLC to develop advanced data mining and data visualization capabilities for complex hyrological modeling.

Inquiries: If any other parties are interested in similar activities with the USGS, please contact Paul Conrads, USGS South Carolina Water District, Stephenson Center, Suite 129, 720 Gracern Road, Columbia, SC 29210, phone: (803) 750-6140.

SUPPLEMENTARY INFORMATION: This Notice is submitted to meet the USGS policy requirements stipulated in Survey Manual Chapter 500.20.

Dated: July 30, 2002.
Robert M. Hirsch,
Associate Director for Water.

[FR Doc. 02-20723 Filed 8-14-02; 8:45 am]

BILLING CODE 4310-Y7-M